INTERNATIONAL TRADE COMMISSION

[Investigation No. 1205-8 (Addendum)]

Certain Footwear: Recommendations for Modifying the Harmonized Tariff Schedule of the United States

AGENCY: United States International Trade Commission.

ACTION: Issuing an Addendum to an investigation for the purpose of making further recommendations.

SUMMARY: Following receipt of a request from the United States Trade Representative (USTR) on November 8, 2010, the Commission has decided to issue an Addendum to investigation No. 1205-8, Certain Footwear: Recommendations for Modifying the Harmonized Tariff Schedule of the United States, for the purpose of making certain further recommendations to the President relating to the addition of new tariff lines applicable to the subject footwear.

DATES:

December 22, 2010: Deadline for filing submissions relating to entries liquidated prior to April 13, 2010, under heading 6405;

December 29, 2010: Date by which Commission will post proposed recommendations on its Web site;

January 12, 2011: Deadline for filing written views by other Federal agencies and interested parties;

February 21, 2011: Transmittal of (final) recommendations to the President.

ADDRESSES: All Commission offices are located in the United States International Trade Commission Building, 500 E Street SW., Washington, DC. All written submissions should be addressed to the Secretary, United States International Trade Commission, 500 E Street SW., Washington, DC 20436. The public record for this investigation may be viewed on the Commission's electronic docket (EDIS) at http://edis.usitc.gov.

FOR FURTHER INFORMATION CONTACT: David Beck, Director, Office of Tariff Affairs and Trade Agreements (202-205-2603, fax 202-205-2616, david.beck@usitc.gov), or Janis L. Summers, Attorney Advisor, Office of Tariff Affairs and Trade Agreements (202-205-2605, janis.summers@usitc.gov). The media should contact Margaret O'Laughlin, Office of External Affairs (202-205-1819, margaret.olaughlin@usitc.gov). Hearing impaired individuals may obtain information on this matter by contacting the Commission's TDD terminal at 202-205-1810. General information concerning the Commission may also be obtained by accessing its Internet Web site at http://www.usitc.gov. Persons with mobility impairments who will need special assistance in gaining access to the Commission should contact the Office of the Secretary at 202-205-2000.

Background: Section 1205(a) of the Omnibus Trade and Competitiveness Act of 1988 (the 1988 Act) (19 U.S.C. 3005(a)) provides that the Commission shall keep the HTS under continuous review and periodically recommend to the President such modifications in the HTS as the Commission considers necessary or appropriate, inter alia, to promote the uniform application of the Harmonized System Convention. Subsections (b)-(d) of section 1205 set out procedures and requirements that the Commission must follow in making its recommendations.

On August 9, 2010, the Commission transmitted to the President a report containing its recommendations regarding modifications to the HTS for certain footwear that was the subject of its investigation No. 1205-8 (USITC Publication 4178, August 2010). A copy of that report is available on the Commission's Web site at http://www.usitc.gov/tariff_affairs/hts_documents/1205-8FINALREPORTCOMBINED.pdf. Pursuant to section 1206 of the 1988 Act, the President has submitted a report containing those recommendations to the House Committee on Ways and Means and Senate Committee on Finance for a 60-day layover period. The Commission noted in that report that it would keep the investigation open to allow it to make further recommendations.

On November 8, 2010, the Commission received a letter from the USTR requesting that the Commission make certain further recommendations concerning the footwear that was the subject of recommendations in the Commission's August 2010 report. More specifically, the USTR requested that the Commission, consistent with the provisions of section 1205(d)—

(1) Make further recommendations, based on new submissions to be filed by interested parties relating to entries liquidated prior to the Commission's initiation of this investigation on April 13, 2010, on the appropriateness of inserting new tariff lines under subheadings 6404.11 and 6404.19, in addition to those already recommended by the Commission in its August 2010 report; and

(2) Provide a further recommendation regarding whether the information previously provided to the Commission in investigation No. 1205-8 by the Footwear Distributors and Retailers of America (FDRA) and by Pro Line Manufacturing Company (Pro Line), covering entries liquidated prior to the initiation of the Commission's investigation on April 13, 2010, provides adequate support for their requests to add tariff lines under subheadings 6402.91.90, 6402.99.40, and 6401.99.

With respect to the first request, the USTR noted that the Commission in its August 2010 report correctly included descriptions specifying that footwear falling under the certain new tariff lines under current HTS subheadings 6404.11 and 6404.19 feature uppers of textile material other than vegetable fibers. The USTR further noted, however, that, because these descriptions appeared for the first time in the final report, interested parties may not have recognized the need to submit information on the tariff classification and rate of duty applied to imports in liquidated and undisputed entries of other footwear (e.g., having uppers of man-made fibers) falling into these new subheadings, so that the Commission could maintain tariff rate neutrality in making its recommendation.

With regard to the second request, the USTR noted that, shortly before the Commission issued its August 2010 report and recommendation, two interested parties, the FDRA and Pro Line, submitted copies of documents that, in their view, supported the need for the Commission to propose additional tariff lines under headings 6401 and 6402. The USTR noted that the Commission report indicated that the FDRA requested the addition of tariff lines under subheadings 6402.91.90 and 6402.99.40 for certain footwear, and that Pro Line requested an additional tariff line under subheading 6401.99 for other footwear. The USTR noted that the Commission did not recommend including these additional tariff lines and indicated that additional time could have been useful to the Commission in evaluating the information provided by the FDRA and Pro Line in that context.

For an up-to-date copy of the HTS, which incorporates the international Harmonized System in its structure, see the Commission's Web site at http://www.usitc.gov/tata/hts/bychapter/index.htm.

Written Submissions: Interested parties are invited to submit written copies of liquidated entries by December 22, 2010. The entry documentation solicited by the Commission in this notice should be for import entries liquidated before April 13, 2010, and covering footwear (1) having an outer sole with textile materials having the greatest surface area in contact with the ground; (2) currently classified under heading 6405; and (3) subject to reclassification under subheading 6404.11 or 6404.19 as a result of the Commission's recommendation set out in its August 2010 report. Recommendations in the Commission's addendum will be limited to the possible new tariff subheadings specified in the USTR's request letter of November 8, 2010, and will not address any other facet of the Commission's August 2010 recommendation.

The Commission will post its proposed recommendations on this matter on its Web site at http://www.usitc.gov/tariff_affairs/modifications_hts.htm by December 29, 2010. Interested Federal agencies and the public may file views on these proposed modifications by January 12, 2011.

All written submissions should be addressed to the Secretary and received no later than December 22, 2010 (for copies of the liquidated entries described above), and no later than January 12, 2011 (with regard to Commission's proposed recommendations). Submissions should be marked to refer to “Investigation No. 1205-8 (Addendum)”. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/docket_services/documents/handbook_on_electronic_filing.pdf ). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by the public. Any confidential business information received in the course of the investigation may be included in the report that the Commission sends to the USTR and the President and may be made available to U.S. Customs and Border Protection and to the U.S. Census Bureau. The Commission will not otherwise publish or release any confidential business information received, nor release it to other government agencies or other persons.

Issued: November 30, 2010.
By order of the Commission.
Marilyn R. Abbott,
Secretary to the Commission.

[FR Doc. 2010-30422 Filed 12-3-10; 8:45 am]

BILLING CODE 7020-02-P